FEDERAL COMMUNICATIONS COMMISSION

[Report No. 2669]

Petition for Reconsideration and Clarification of Action in Rulemaking Proceeding

August 10, 2004.

Petition for Reconsideration and Clarification has been filed in the Commission's Rulemaking proceeding listed in this Public Notice and published pursuant to 47 CFR 1.429(e). The full text of this document is available for viewing an copying in Room CY-B402, 445 12th Street, SW., Washington, DC or may be purchased from the Commission's copy contractor, Best Copy and Printing, Inc. (BCPI) (1-800-378-3160). Oppositions to this petition must be filed by September 7, 2004. See Section 1.4(b)(1) of the Commission's rules (47 CFR 1.4(b)(1)). Replies to an opposition must be filed within 10 days after the time for filing oppositions have expired.

Subject: In the Matter of the Review of the Commission's Broadcast and Cable Equal Employment Opportunity Rules and Practices (MM Docket No. 98-204)

Number of Petitions Filed: 1.

Marlene H. Dortch,
Secretary.

[FR Doc. 04-19145 Filed 8-19-04; 8:45 am]

BILLING CODE 4712-01-M